DEPARTMENT OF HEALTH AND HUMAN SERVICES

Centers for Medicare & Medicaid Services

[Document Identifier: CMS-10082 OMB #0938-0898]

Emergency Clearance: Public Information Collection Requirements Submitted to the Office of Management and Budget (OMB)

AGENCY: Centers for Medicare and Medicaid Services, HHS.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR Part 1320. The unanticipated lapse in the approval of this collection prior to implementation has resulted in the necessity to have the collection reinstated on an emergency basis. The information collection to be reinstated has not been modified from the version submitted to OMB under the regular PRA clearance process and approved on July 28, 2003.

CMS is requesting OMB review and approval of this collection within 15 days from the date of this publication, with an 180-day approval period. Written comments and recommendations will be accepted from the public if received by the individuals designated below within 14 days from the date of this publication. (Note: An Emergency Federal Register Notice for this collection was published on March 19, 2004; however, due to a technical discrepancy with the material submitted to OMB which has since been corrected, OMB has requested that CMS republish the notice. All information below is identical to the material published on March 19th.)

Type of Information Collection Request: Reinstatement without change.

Title of Information Collection: Survey of States Performance Measurement Reporting Capability.

Form No.: CMS-10082 (OMB# 0938-0898).

Use: Because of the wide variability of Medicaid and SCHIP financing and service delivery approaches, there is little common ground from which to develop uniform reporting on performance measures by states. While CMS has decided on the first seven measures to be used, the ability of states to calculate those measures using HEDIS directly or HEDIS specifications (e.g., when calculating measures from fee-for-service claims data) is highly variable. Current efforts are focused on assessing the capability of each state to report on the selected measures and on helping states to make necessary adjustments in order to be able to report measures uniformly so that state-to-state comparisons can be made. To accomplish this, states will be requested to report available numerator and denominator data for the seven core HEDIS measures via a survey instrument created for this purpose. The data will be requested for each state's Medicaid and SCHIP programs by delivery system.

Frequency: Once.

Affected Public: State, local, and tribal government.

Number of Respondents: 51.

Total Annual Responses: 51.

Total Annual Hours: 2,360.

We have submitted a copy of this notice to OMB for its review of these information collections.

To obtain copies of the supporting statement and any related forms for the proposed paperwork collections referenced above, E-mail your request, including your address, phone number, OMB number, and CMS document identifier, to Jburke3@cms.hhs.gov, or call the Reports Clearance Office on (410) 786-4194.

Interested persons are invited to send comments regarding the burden or any other aspect of these collections of information requirements. However, as noted above, comments on these information collection and recordkeeping requirements must be mailed and/or faxed to the designees referenced below, within 14 days of publication of this notice:

Centers for Medicare and Medicaid Services, Office of Strategic Operations and Regulatory Affairs, Room C5-14-03, 7500 Security Boulevard, Baltimore, MD 21244-1850, Fax Number: (410) 786-0262, Attn: Melissa Musotto CMS-10082,

and,

Office of Information and Regulatory Affairs, Office of Management and Budget, Room 10235, New Executive Office Building, Washington, DC 20503, Fax Number: (202) 395-6974 or (202) 395-5167, Attn: Katherine T. Astrich, CMS Desk Officer 0938-0898.

Dated: April 8, 2004.
John P. Burke III,
CMS Reports Clearance Officer, Paperwork Reduction Act Team Leader, Office of Strategic Operations and Regulatory Affairs, Division of Regulations Development and Issuances.

[FR Doc. 04-8530 Filed 4-14-04; 8:45 am]

BILLING CODE 4120-03-P